DEPARTMENT OF EDUCATION

President's Commission Excellence in Special Education

AGENCY: President's Commission on Excellence in Special Education, Department of Education.

ACTION: Notice of public meeting.

SUMMARY: This notice provides the location of the first meeting of the President's Commission on Excellence in Special Education (Commission). This is a subsequent notice about the Commission meeting first published on December 19, 2001, in the Federal Register, Vol. 66, No. 244 on page 65473. Notice of this meeting is required under section 10(a)(2) of the Federal Advisory Committee Act in order to notify the public of their opportunity to attend. Members of the general public may observe and listen to Commission proceedings via live feed television at the Hotel Washington. The Commission will not receive comments from the general public at this meeting, but any member of the public is permitted to file a written statement with the Commission. Subsequent Commission meetings and hearings will be posted on the Commission's Web site.

DATES AND TIMES: Tuesday, January 15, 2002, from 7:30 a.m.-5 p.m. Please note this is a revised time.

ADDRESSES: The Commission meeting will be held in Washington, DC, at the Hotel Washington located at 515 15th Street, NW., Washington, DC 20004.

FOR FURTHER INFORMATION CONTACT: C. Todd Jones, Executive Director, at 202-208-1312 (telephone) or Troy R. Justesen, Deputy Executive Director, at 202-219-0704 (telephone), (202) 208-1953 (fax), troy.justesen@ed.gov (E-mail) or via the Commission's Web site address at: http://www.ed.gov/inits/commissionsboards/whspecialeducation/sitemap.html

SUPPLEMENTARY INFORMATION: The Commission was established under Executive Order 13227 (October 2, 2001) to collect information and study issues Related to Federal, State, and local special education programs with the goal of recommending policies for improving the educational performance of students with disabilities. In furtherance of its duties, the Commission shall invite experts and members of the public to provide information and guidance. The Commission shall prepare and submit a report to the President outlining its findings and recommendations.

At the January meeting, the Commission will discuss current and future activities. Specifically, the Commission will focus on planning future Commission meetings and hearings to be held in locations across the nation.

Individuals who will need accommodations for a disability in order to attend the meeting (i.e., interpreting services, assistive listening devices, materials in alternative formats) should notify Troy R. Justesen, at (202) 219-0704, by no later than January 8, 2002. We will attempt to meet requests after this date, but cannot guarantee availability of the requested accommodation. The meeting site will be accessible to individuals with mobility impairments, including those who use wheelchairs.

Records of all Commission proceedings are available for public inspection at the President's Commission on Excellence in Special Education, 80 F Street, N.W., Suite 408; Washington, DC 20208 from 9 a.m. to 5 p.m. (EST).

Dated: January 4, 2002.
C. Todd Jones,
Executive Director & Delegated Functions of Assistant Secretary for Office for Civil Rights.

[FR Doc. 02-594 Filed 1-9-02; 8:45 am]

BILLING CODE 4000-01-M